INTERNATIONAL TRADE COMMISSION

[USITC SE-05-044]

Sunshine Act Meeting

Agency Holding the Meeting: United States International Trade Commission.

Time and Date: December 7, 2005 at 11 a.m.

Place: Room 101, 500 E Street, SW., Washington, DC 20436, Telephone: (202) 205-2000.

Status: Open to the public.

Matters to be Considered: 1. Agenda for future meetings: None.

2. Minutes.

3. Ratification List.

4. Inv. No. 731-TA-1098 (Preliminary) (Liquid Sulfur Dioxide from Canada)—briefing and vote. (The Commission is currently scheduled to transmit its determination to the Secretary of Commerce on or before December 8, 2005; Commissioners' opinions are currently scheduled to be transmitted to the Secretary of Commerce on or before December 15, 2005.)

5. Inv. Nos. 731-TA-639 and 640 (Second Review) (Forged Stainless Steel Flanges from India and Taiwan)—briefing and vote. (The Commission is currently scheduled to transmit its determination and Commissioners' opinions to the Secretary of Commerce on or before December 16, 2005.)

6. Outstanding action jackets: None.

In accordance with Commission policy, subject matter listed above, not disposed of at the scheduled meeting, may be carried over to the agenda of the following meeting.

By order of the Commission.
Issued: November 29, 2005.
Marilyn R. Abbott,
Secretary to the Commission.

[FR Doc. 05-23574 Filed 11-29-05; 2:43 pm]

BILLING CODE 7020-02-P